DEPARTMENT OF COMMERCE

International Trade Administration

[Application No. 90-8A007]

Export Trade Certificate of Review

ACTION: Notice of Issuance of an amended Export Trade Certificate of Review to the United States Surimi Commission (“USSC”).

SUMMARY: The Secretary of Commerce, through the Office of Trade and Economic Analysis (“OTEA”), issued an amended Export Trade Certificate of Review to the United States Surimi Commission on February 10, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

USSC's Export Trade Certificate of Review

1. Remove the following members as Member of the Certificate: Alaska Ocean Seafood Limited Partnership; Highland Light Seafoods Limited Liability Company; and Alaska Trawl Fisheries, Inc.

2. Replace the existing Member American Seafoods Company with American Seafoods Company LLC, and add as new Members three entities affiliated with American Seafoods Company LLC: American Seafoods Japan, Ltd.; AS Europe ApS; and American Seafoods China (Dalian) Ltd.

3. Add as new Members six entities that are affiliated with the existing Member Arctic Storm, Inc.: Arctic Storm International, Inc.; Arctic Fjord, Inc.; AF International, Inc.; Fjord Seafoods LLC; Arctic Storm Management Group LLC; and Fjord Fisheries General Partnership;

4. Replace the existing Member Glacier Fish Company with Glacier Fish Company LLC, and add as a new Member an affiliated company, ASM Export Co; and

5. Replace the existing Member The Starbound Limited Partnership with Starbound LLC, and add as new Members affiliated companies, NWPI, Inc, and Aleutian Spray Fisheries, Inc.

USSC's Export Trade Certificate of Review Now Lists Following Entities as Members Under the Amended Certificate

1. American Seafoods Company LLC

2. American Seafoods Japan, Ltd.

3. AS Europe ApS

4. American Seafoods China (Dalian) Ltd.

5. Arctic Storm, Inc.

6. Arctic Storm International, Inc.

7. Fjord Fisheries General Partnership

8. Arctic Fjord, Inc.

9. AF International, Inc.

10. Fjord Seafood LLC

11. Arctic Storm Management Group LLC

12. Glacier Fish Company, LLC

13. ASM Export Co.

14. Starbound LLC

15. Aleutian Spray Fisheries, Inc.

16. NWPI, Inc.

Dated: February 17, 2016.
Joseph E. Flynn,
Director, Office of Trade and Economic Analysis.

[FR Doc. 2016-03742 Filed 2-22-16; 8:45 am]

BILLING CODE 3510-DR-P